DEPARTMENT OF ENERGY

Federal Energy Regulatory Commission

Combined Notice of Filings #1

Take notice that the Commission received the following electric rate filings:

Docket Numbers: ER12-199-004.

Applicants: Coram California Development, L.P.

Description: Coram California Development, L.P. Notice of Non-Material Change in Status.

Filed Date: 5/4/12.

Accession Number: 20120504-5202.

Comments Due: 5 p.m. ET 5/25/12.

Docket Numbers: ER12-1713-000.

Applicants: Southwest Power Pool, Inc.

Description: 2415 KMEA NITSA NOA and Cancellation of SAs 1863R1, 1975R1, 2014R1 & 2015R1 to be effective 4/1/2012.

Filed Date: 5/3/12.

Accession Number: 20120503-5107.

Comments Due: 5 p.m. ET 5/24/12.

Docket Numbers: ER12-1714-000.

Applicants: West Oaks Energy LP.

Description: Notice of Cancellation to be effective 5/4/2012.

Filed Date: 5/3/12.

Accession Number: 20120503-5114.

Comments Due: 5 p.m. ET 5/24/12.

Docket Numbers: ER12-1718-000.

Applicants: Sunbury Generation LP.

Description: Sunbury Generation LP Market Based Rate Change to be effective 5/5/2012.

Filed Date: 5/4/12.

Accession Number: 20120504-5153.

Comments Due: 5 p.m. ET 5/25/12.

Docket Numbers: ER12-1719-000.

Applicants: PJM Interconnection, L.L.C.

Description: Notice of Cancellation of SA No. 2952 in Docket No. ER11-3889-000 to be effective 4/4/2011.

Filed Date: 5/4/12.

Accession Number: 20120504-5170.

Comments Due: 5 p.m. ET 5/25/12.

Docket Numbers: ER12-1720-000.

Applicants: Vlast LLC.

Description: Vlast LLC, FERC Electric Tariff to be effective 7/2/2012.

Filed Date: 5/7/12.

Accession Number: 20120507-5000.

Comments Due: 5 p.m. ET 5/29/12.

Docket Numbers: ER12-1721-000.

Applicants: Southern Power Company.

Description: Request of Southern Power Company for Authorization to Make Affiliate Market-Based-Rate Wholesale Power Sales.

Filed Date: 5/4/12.

Accession Number: 20120504-5175.

Comments Due: 5 p.m. ET 5/25/12.

Take notice that the Commission received the following electric securities filings:

Docket Numbers: ES12-31-000.

Applicants: American Transmission Company LLC, ATC Management Inc.

Description: Supplement to Section 204 Application of American Transmission Company LLC, et al.

Filed Date: 5/4/12.

Accession Number: 20120504-5143.

Comments Due: 5 p.m. ET 5/17/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 7, 2012.
Nathaniel J. Davis, Sr.,
Deputy Secretary.

[FR Doc. 2012-11642 Filed 5-14-12; 8:45 am]

BILLING CODE 6717-01-P